DEPARTMENT OF THE INTERIOR

Bureau of Land Management

[CO-501-1610-DU]

Notice of Intent To Prepare the San Luis Valley Travel Management Plan and Amend San Luis Valley Resource Management Plan and Start the Scoping Period

AGENCY: Bureau of Land Management, Interior.

ACTION: Notice of intent.

SUMMARY: This document provides notice that the Bureau of Land Management (BLM) will initiate a comprehensive planning effort to address Off-Highway Vehicle (OHV) travel and other related road and trail issues for the San Luis Valley Public Land Center. The plan, entitled the San Luis Valley Travel Management Plan (TMP), will focus specifically on 520,000 acres of BLM-administered lands in the San Luis Valley that lie in Alamosa County, Conejos County, Costillo County, Saguache County, and Rio Grande County, CO.

The TMP would potentially amend the San Luis Valley RMP. The amendment process will be used to establish a travel management system of roads and trails that meets the needs of the public and protects the cultural and natural resources of the BLM-administered lands. The environmental assessment (EA) will analyze and compare the impacts of any changes in OHV area and route designations and management with the continuation of current management, and other alternatives that may be identified.

The BLM will prepare the amendment and associated EA pursuant to the BLM planning regulations in 43 CFR 1600. The plan will fulfill the needs and obligations set forth by the National Environmental Policy Act (NEPA), the Federal Land Policy and Management Act (FLPMA), and BLM management policies.

The BLM will work collaboratively with interested parties to identify the management decisions that are best suited to local, regional, and national needs and concerns. The public scoping process will identify planning issues and develop planning criteria. The BLM will prepare the TMP through coordination with other federal, state and local agencies, and affected users of BLM-administered lands.

DATES: This notice initiates the public scoping process. Comments on issues and concerns can be submitted in writing to the address listed below and will be accepted throughout the creation of the Draft RMP amendment/EA. All public meetings will be announced through the local news media and newsletters at least 15 days prior to the event. The minutes and list of attendees for each meeting will be available to the public and open for 30 days to any participant who wishes to clarify the views they expressed.

Public Participation: The BLM will hold public meetings during the plan scoping period. Early participation is encouraged and will help determine the future travel management of the BLM-administered lands involved in this amendment. In addition to the ongoing public participation process, the BLM will provide formal opportunities for public participation by requesting comments upon the BLM's publication of the BLM draft RMP amendment, the EA, and an (unsigned) Finding of No Significant Impact (FONSI).

ADDRESSES: Please send written comments to the Bureau of Land Management, San Luis Valley Public Land Center (SLVPLC), Attn: San Luis Valley TMP, 1803 W. Hwy 160, Monte Vista, CO 81144; Fax 719-852-6250. Documents pertinent to this proposal may be examined at the SLVPLC. Comments, including names and street addresses of respondents, will be available for public review at the SLVPLC during regular business hours (8 a.m. to 4:30 p.m.), Monday through Friday, except holidays, and may be published as part of the EA.

Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be available for public inspection in their entirety.

FOR FURTHER INFORMATION CONTACT: For further information and/or to have your name added to our mailing list, contact Mark Swinney, Team Leader, at the SLVPLC address listed above or by calling (719) 852-6260.

SUPPLEMENTARY INFORMATION: The use of roads and trails for motorized and non-motorized recreation and other land use activities are important uses of BLM-administered lands. In response to recommendations made by the Front Range Resource Advisory Council, the BLM proposes developing a travel management plan and establishing a travel management system of designated roads and trails.

Preliminary issues and management concerns have been identified by BLM personnel, other agencies, and in meetings with individuals and user groups. They represent the BLM's knowledge to date about the existing issues and concerns with current management. The preliminary issues include: Impacts to public land users and adjacent private landowners; impacts to wildlife habitat; and impacts to water quality, vegetation, including riparian and wetland areas, and soils. These issues, along with others that may be identified through public participation, will be considered in the planning process. After gathering public comments on what issues the plan amendment should address, the suggested issues will be placed in one of three categories:

1. Issues to be resolved in the plan amendment;

2. Issues resolved through policy or administrative action; or

3. Issues beyond the scope of this plan amendment.

The plan will provide rationale for each issue placed in category two or three. In addition to these major issues, a number of management questions and concerns will be addressed in the plan amendment. The public is encouraged to help identify these questions and concerns during the scoping phase. The BLM will use an interdisciplinary approach to develop the plan amendment in order to consider the variety of resource issues and concerns identified. Disciplines involved in the planning process will include specialists with expertise in rangeland management, minerals and geology, forestry, outdoor recreation, law enforcement, archaeology, wildlife and fisheries, lands and realty, hydrology, soils, vegetation, and fire.

Mark Swinney,
Acting Associate Center Manager, San Luis Valley Public Land Center.

[FR Doc. 04-6993 Filed 3-29-04; 8:45 am]

BILLING CODE 4310-84-P